DEPARTMENT OF ENERGY

Federal Energy Regulatory Commission

[Project No. 7987-016]

UP Property 2, LLC; Notice of Availability of Environmental Assessment

In accordance with the National Environmental Policy Act of 1969 and the Federal Energy Regulatory Commission's (Commission or FERC) regulations, 18 CFR part 380, Commission staff reviewed UP Property 2, LLC's application to surrender the exemption of the High Falls Project No. 7987 and have prepared an Environmental Assessment (EA) for the proposed surrender. The exemptee proposes to surrender the exemption by removing the dam down to the riverbed. The project is located on the Deep River in Moore County, North Carolina.

The EA contains Commission staff's analysis of the potential environmental effects of the proposed surrender of the exemption, and concludes that the proposed surrender, would not constitute a major federal action that would significantly affect the quality of the human environment.

The final EA may be viewed on the Commission's website at https://www.ferc.gov using the “eLibrary” link. Enter the docket number (P-7987-016) in the docket number field to access the document. For assistance, contact FERC Online Support at FERCOnlineSupport@ferc.gov or toll-free at 1-866-208-3676, or for TTY, (202) 502-8659.

You may also register online at https://www.ferc.gov/docs-filing/esubscription.asp to be notified via email of new filings and issuances related to this or other pending projects. For assistance, contact FERC Online Support.

The Commission's Office of Public Participation (OPP) supports meaningful public engagement and participation in Commission proceedings. OPP can help members of the public, including landowners, Tribal members and others, access publicly available information and navigate Commission processes. For public inquiries and assistance with making filings such as interventions, comments, or requests for rehearing, the public is encouraged to contact OPP at (202) 502-6595 or OPP@ferc.gov.

For further information, contact Shana High at 202-502-8674 or shana.high@ferc.gov or Mary Karwoski at 678-245-3027 or mary.karwoski@ferc.gov.

Dated: January 31, 2025.
Debbie-Anne A. Reese,
Secretary.

[FR Doc. 2025-02317 Filed 2-6-25; 8:45 am]

BILLING CODE 6717-01-P